DEPARTMENT OF COMMERCE

National Telecommunications and Information Administration

[Docket No. 100921457-0561-02]

RIN 0660-XA20

Global Free Flow of Information on the Internet

AGENCY: National Telecommunications and Information Administration, U.S. Department of Commerce.

ACTION: Notice of Inquiry; reopening of comment period.

SUMMARY: The Department of Commerce's Internet Policy Task Force announces that the closing deadline for submission of comments responsive to the September 29, 2010 notice of inquiry on the global free flow of information on the Internet has been reopened and will extend until 5 p.m. Eastern Standard Time (EST) on December 6, 2010.

DATES: Comments are due by 5 p.m. EST on December 6, 2010.

ADDRESSES: Interested parties are encouraged to file comments electronically by e-mail to freeflow-noi-2010@ntia.doc.gov. Submissions should be in one of the following formats: HTML, ASCII, Word, rtf, or pdf. Paper comments can be sent to: National Telecommunications and Information Administration at U.S. Department of Commerce, 1401 Constitution Avenue, NW., Room 4701, Washington, DC 20230. Please note that all material sent via the U.S. Postal Service (including “Overnight” or “Express Mail”) is subject to delivery delays of up to two weeks due to mail security procedures. Paper submissions should also include a CD or DVD in Word, WordPerfect, or pdf format. CDs or DVDs should be labeled with the name and organizational affiliation of the filer, and the name of the word processing program used to create the document. Comments filed in response to this notice will be made available to the public on the Internet Policy Task Force Web page at http://www.ntia.doc.gov/internetpolicytaskforce. For this reason, comments should not include confidential, proprietary, or business sensitive information.

FOR FURTHER INFORMATION CONTACT: For general questions about this amended Notice, contact: Chris Hemmerlein, Office of International Affairs, National Telecommunications and Information Administration, U.S. Department of Commerce, 1401 Constitution Avenue, NW., Room 4706, Washington, DC 20230; telephone (202) 482-1885; e-mail chemmerlein@ntia.doc.gov. Please direct media inquires to NTIA's Office of Public Affairs at (202) 482-7002; or USPTO's Office of Public Affairs at (572) 272-8400.

SUPPLEMENTARY INFORMATION: On April 21, 2010, the Department of Commerce (the “Department”) announced the formation of a Commerce-wide Internet Policy Task Force (“Task Force”) to identify leading public policy and operational issues impacting the U.S. private sector's ability to realize the potential for economic growth and job creation through the Internet.¹ On September 29, 2010, the Task Force issued a notice of inquiry on restrictions placed upon the free flow of information on the Internet with a closing date for comments of November 15, 2010.² In the interest of affording parties more time to submit comments, the Task Force is reopening the comment period. The Task Force announces that the closing deadline for submission of comments responsive to the September 29, 2010 is now extended until 5 p.m. Eastern Standard Time (EST) on December 6, 2010. Comments received after the original closing date of November 15, 2010 and before the publication of this notice will be considered timely and given full consideration.

¹ Commerce Secretary Locke Launches Internet Policy Task Force, Department of Commerce Press Release (April 21, 2010), at http://www.commerce.gov/news/press-releases/2010/04/21/commerce-secretary-locke-announces-public-review-privacy-policy-and-i.

² See 75 FR 60068 (September 29, 2010).

Dated: November 12, 2010.
Lawrence E. Strickling,
Assistant Secretary for Communications and Information.

[FR Doc. 2010-29070 Filed 11-17-10; 8:45 am]

BILLING CODE 3510-60-P